DEPARTMENT OF HEALTH AND HUMAN SERVICES

Centers for Disease Control and Prevention

Disease, Disability, and Injury Prevention and Control Special Emphasis Panel: Occupational Safety and Health Training Projects Grants, Request for Applications (RFA) 06-484; and Occupational Safety and Health Educational Research Centers, RFA 06-485, Initial Review

In accordance with section 10(a)(2) of the Federal Advisory Committee Act (Pub. L. 92-463), the Centers for Disease Control and Prevention (CDC) announces the aforementioned meeting:

Times and Dates:

8:30 a.m.-5 p.m., February 18, 2010 (Closed).

8:30 a.m.-5 p.m., February 19, 2010 (Closed).

Place: Marina Del Ray Marriott, 4100 Admiralty Way, Marina Del Ray, California 90292, Telephone (310) 301-3000.

Status: The meeting will be closed to the public in accordance with provisions set forth in section 552b(c)(4) and (6), Title 5 U.S.C., and the Determination of the Director, Management Analysis and Services Office, CDC, pursuant to Public Law 92-463.

Matters to be Discussed: The meeting will include the initial review, discussion, and evaluation of “Occupational Safety and Health Training Projects Grants, RFA 06-484; and Occupational Safety and Health Educational Research Centers, RFA 06-485.”

There were site visits conducted at the University of California, Berkeley and San Francisco, October 12-14, 2009; the University of Massachusetts, Lowell, October 21, 2009; the University of West Virginia, October 27, 2009; the University of Colorado, November 2-4, 2009; the University of Minnesota, November 18-20, 2009; and the University of Washington, December 16-18, 2009 to advise and make recommendations to the Disease, Disability, and Injury Prevention and Control SEP: Occupational Safety and Health Training Projects Grants, RFA 06-484; Occupational Safety and Health Educational Research Centers, RFA 06-485.

Contact Person for More Information: Dr. M. Chris Langub, PhD, Scientific Review Administrator, 1600 Clifton Road, NE., Mailstop E74, Atlanta, GA 30333, Telephone (404)498-2543.

The Director, Management Analysis and Services Office, has been delegated the authority to sign Federal Register notices pertaining to announcements of meetings and other committee management activities, for both CDC and the Agency for Toxic Substances and Disease Registry.

Dated: January 19, 2010.
Elaine L. Baker,
Director, Management Analysis and Services Office, Centers for Disease Control and Prevention.

[FR Doc. 2010-1633 Filed 1-26-10; 8:45 am]

BILLING CODE 4163-18-P